FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
020298NF | A A Shipping Incorporated, 11526 Harwin Drive, Houston, TX 77072 | September 27, 2010.
020660F | GAL International Inc., 5070 Parkside Avenue, Suite 3104, Philadelphia, PA 19131 | October 17, 2010.

Sandra L. Kusumoto,
Director, Bureau of Certification and Licensing.

[FR Doc. 2010-29056 Filed 11-17-10; 8:45 am]

BILLING CODE 6730-01-P